DEPARTMENT OF TRANSPORTATION

Federal Aviation Administration

[Summary Notice No. 2016-89]

Petition for Exemption; Summary of Petition Received; The Boeing Company

AGENCY: Federal Aviation Administration (FAA), DOT.

ACTION: Notice.

SUMMARY: This notice contains a summary of a petition seeking relief from specified requirements of title 14 of the Code of Federal Regulations. The purpose of this notice is to improve the public's awareness of, and participation in, the FAA's exemption process. Neither publication of this notice nor the inclusion or omission of information in the summary is intended to affect the legal status of the petition or its final disposition.

DATES: Comments on this petition must identify the petition docket number and must be received on or before September 8, 2016.

ADDRESSES: Send comments identified by docket number FAA-2016-7855 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Deana Stedman, ANM-113, Federal Aviation Administration, 1601 Lind Avenue SW., Renton, WA 98057-3356, email deana.stedman@faa.gov, phone (425) 227-2148.

This notice is published pursuant to 14 CFR 11.85.

Issued in Washington, DC, on August 2, 2016.
Dale Bouffiou,
Acting Director, Office of Rulemaking.

Petition for Exemption

Docket No.: FAA-2016-7855.

Petitioner: The Boeing Company.

Section(s) of 14 CFR Affected: §§ 25.901(c) and 25.1309(b).

Description of Relief Sought: The Boeing Company seeks temporary relief from the requirements of 14 CFR 25.901(c) and 25.1309(b) to allow time necessary to fully develop, certify, and incorporate a design change to correctly accommodate single failures of the thrust control module which can cause un-commanded high thrust. Boeing intends to correct the design by December 31, 2018, for production 787 Model airplanes, and provide retrofit instructions to the fleet.

[FR Doc. 2016-19779 Filed 8-18-16; 8:45 am]

BILLING CODE 4910-13-P